DEPARTMENT OF HEALTH AND HUMAN SERVICES

Centers for Disease Control and Prevention

Advisory Committee to the Director (ACD), Centers for Disease Control and Prevention (CDC)—Ethics Subcommittee (ES)

In accordance with section 10(a)(2) of the Federal Advisory Committee Act (Pub. L. 92-463), the CDC announces the following meeting of the aforementioned subcommittee:

Times and Dates: 1 p.m.-5 p.m., October 7, 2010; 8:30 a.m.-12:30 p.m., October 8, 2010.

Place: CDC, Thomas R. Harkin Global Communications Center, Distance Learning Auditorium, 1600 Clifton Road, NE., Atlanta, GA 30333. This meeting is also available by teleconference. Please dial (877) 928-1204 and enter code 4305992.

Status: Open to the public, limited only by the space available. The meeting room accommodates approximately 60 people. To accommodate public participation in the meeting, a conference telephone line will be available. The public is welcome to participate during the public comment. The public comment periods are tentatively scheduled for 4 p.m.-4:15 p.m. on October 7, 2010 and from 12 p.m.-12:15 p.m. on October 8, 2010.

Purpose: The ES will provide counsel to the ACD, CDC, regarding a broad range of public health ethics questions and issues arising from programs, scientists and practitioners.

Matter To Be Discussed: Agenda items will include the following topics: Plans for obtaining public comment on the ventilator guidance document; efforts to support state, tribal, local and territorial health departments address ethical issues in the practice of public health; and ethical issues relating to patient notification following infection control lapses.

The agenda is subject to change as priorities dictate.

Contact Person for More Information: For security reasons, members of the public interested in attending the meeting should contact Drue Barrett, PhD, Designated Federal Official, ACD, CDC-ES, 1600 Clifton Road, NE., M/S D-50, Atlanta, Georgia 30333. Telephone (404) 639-4690. E-mail: dbarrett@cdc.gov. The deadline for notification of attendance is October 1, 2010.

The Director, Management Analysis and Services Office, has been delegated the authority to sign Federal Register notices pertaining to announcements of meetings and other committee management activities, for both the Centers for Disease Control and Prevention and the Agency for Toxic Substances and Disease Registry.

Dated: September 10, 2010.
Elaine L. Baker,
Director, Management Analysis and Services Office, Centers for Disease Control and Prevention.

[FR Doc. 2010-23228 Filed 9-16-10; 8:45 am]

BILLING CODE 4163-18-P